DEPARTMENT OF TRANSPORTATION

Federal Aviation Administration

[Docket No. FAA-2020-0379]

Agency Information Collection Activities: Requests for Comments; Clearance of a New Approval of Information Collection: Operational Waivers for Small Unmanned Aircraft Systems

AGENCY: Federal Aviation Administration (FAA), DOT.

ACTION: Notice and request for comments.

SUMMARY: In accordance with the Paperwork Reduction Act of 1995, FAA invites public comments about our intention to request the Office of Management and Budget (OMB) approval for a new information collection. The Federal Register Notice with a 60-day comment period soliciting comments on the following collection of information was published on April 10, 2010. The FAA proposes collecting information about requests for waivers from certain operational rules that apply to small unmanned aircraft systems (sUAS). The FAA will use the collected information to make determinations whether to authorize or deny the requested operations of sUAS. The proposed information collection is necessary to issue such authorizations or denials consistent with the FAA's mandate to ensure safe and efficient use of national airspace.

DATES: Written comments should be submitted by November 5, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Jeremy Grogan by email at: jeremy.grogan@faa.gov; phone: (405) 666-1187.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-XXXX.

Title: Operational Waivers for Small Unmanned Aircraft Systems.

Form Numbers: N/A (online portal).

Type of Review: New.

Background: The Federal Register Notice with a 60-day comment period soliciting comments on the following collection of information was published on April 10, 2020 (85 FR 20333). The FAA has seen increased operations of small unmanned aircraft systems (sUAS) flying under 14 CFR part 107. Under 14 CFR 107.205, operators of small UAS may seek waivers from certain operational rules. The FAA is updating and modernizing the process for applying for such waivers using the DroneZone website. These improvements will facilitate the process of collecting and submitting the information required as part of a waiver application. The reporting burdens for operational waiver applications are currently covered by Information Collection Request (ICR) 2120-0768. As part of this effort, the FAA is creating a new ICR just for operational waiver applications. In order to process operational waiver requests, the FAA requires the operator's name, the operator's contact information, and information related to the date, place, and time of the requested small UAS operation. Additional information is required related to the proposed waiver and any necessary mitigations. The FAA will use the requested information to determine if the proposed UAS operation can be conducted safely. This information is necessary for the FAA to meet its statutory mandate of maintaining a safe and efficient national airspace. See 49 U.S.C. 40103, 44701 and 44708.

Respondents: sUAS Operators: 8,034 per year.

Frequency: On occasion. For requests for operational waivers, a respondent will need to provide the information once at the time of the request for the waiver. If granted, operational waivers may be valid for up to four (4) years.

Estimated Average Burden per Response: 30 minutes. The FAA estimates 1.3 responses per respondent.

Estimated Total Annual Burden: 0.65 hours per respondent, for a total of 5,222 hours.

Issued in Washington, DC, on September 30, 2020.
Dwayne C. Morris,
Project Manager, Flight Standards Service, General Aviation and Commercial Division.

[FR Doc. 2020-22003 Filed 10-5-20; 8:45 am]

BILLING CODE 4910-13-P